DEPARTMENT OF LABOR

Employment and Training Administration

[TA-W-42,234]

Joy Mining Machinery, a Division of Joy Global, Inc., Co., Mt. Vernon, IL; Notice of Negative Determination Regarding Application for Reconsideration

By application received on December 4, 2002, a petitioner requested administrative reconsideration of the Department's negative determination regarding eligibility for workers and former workers of the subject firm to apply for Trade Adjustment Assistance (TAA). The denial notice applicable to workers of Joy Mining Machinery, a Division of Joy Global, Inc., Co., Mt. Vernon, Illinois, was signed on August 26, 2002, and published in the Federal Register on September 10, 2002 (67 FR 57456).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition was filed on behalf of workers at Joy Mining Machinery, a Division of Joy Global, Inc., Co., Mt. Vernon, Illinois engaged in activities related to the repair and rebuilding of underground coal mining equipment for unrelated producers. The petition was denied because the petitioning workers did not produce an article within the meaning of Section 222(3) of the Act.

The petitioner appears to claim that layoffs at Joy Mining Machinery, a Division of Joy Global, Inc., Co., Mt. Vernon, Illinois, were the result of mining machine parts arriving from Mexico.

As the subject firm does not produce original parts, but repairs existing ones, the function of subject firm workers is not considered production; thus, the workers do not produce an article with the meaning of Section 222(3) of the Trade Act of 1974.

Conclusion

After review of the application and investigative findings, I conclude that there has been no error or misinterpretation of the law or of the facts which would justify reconsideration of the Department of Labor's prior decision. Accordingly, the application is denied.

Signed at Washington, DC, this 13th day of February, 2003.
Edward A. Tomchick,
Director, Division of Trade Adjustment Assistance.

[FR Doc. 03-4288 Filed 2-21-03; 8:45 am]

BILLING CODE 4510-30-P